DEPARTMENT OF COMMERCE

International Trade Administration

Export Trade Certificate of Review

ACTION: Notice of issuance of an amended export trade certificate of review, Application No. 92-6A001.

SUMMARY: The Department of Commerce issued an amended Export Trade Certificate of Review to the Aerospace Industries Association of America, Inc. on December 4, 2001. Notice of issuance of the original Certificate was published in the Federal Register on April 17, 1992, (57 FR 13707).

FOR FURTHER INFORMATION CONTACT: Vanessa M. Bachman, Acting Director, Office of Export Trading Company Affairs, International Trade Administration, (202) 482-5131, oetca@ita.doc.gov. This is not a toll-free number.

SUPPLEMENTARY INFORMATION: Title III of the Export Trading Company Act of 1982 (15 U.S.C. 4001 et seq.) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of a Certificate in the Federal Register. Under section 305(a) of the Act and 15 CFR 325.11(a), any person aggrieved by the Secretary's determination may, within 30 days of the date of this notice, bring an action in any appropriate district court of the United States to set aside the determination on the ground that the determination is erroneous.

Description of Amended Certificate

The Aerospace Industries Association of America, Inc. (“AIA”) original Certificate was issued on April 10, 1992 (57 FR 13707, April 17, 1992) and last amended on November 12, 1998 (63 FR 64061, November 18, 1998).

AIA's Export Trade Certificate of Review has been amended to:

1. Add the following companies as new “Members” of the Certificate within the meaning of section 325.2(1) of the Regulations (15 CFR 325.2(1)): Groen Brothers Aviation, Inc., Salt Lake City, UT; i2 Technologies, Washington, DC; Martin-Baker America, Incorporated, Arlington, VA (Controlling Entity: Martin-Baker Aircraft Company Ltd., Denham, Buckinghamshire, UK); MatrixOne, Inc., Chelmsford, MA; MD Helicopters, Inc., Mesa, AZ; The NORDAM Group, Tulsa, OK; Omega Air, Inc., Alexandria, VA (Controlling Entity: Omega Air, Dublin Airport, Ireland); Space Access, LLC, Palmdale, CA; Spectrum Astro, Inc., Gilbert AZ; Stellex Aerostructures, Inc., Woodland Hills, CA (Controlling Entity: Stellex Technologies, Inc., Woodland Hills, CA); Swales Aerospace, LLC, Beltsville, MD; Vought Aircraft Industries, Inc., Dallas, TX (Controlling Entity: The Carlyle Group, Washington, DC); W.L. Gore & Associates, Inc., Newark, DE; BAE Systems North America, Inc., Rockville, MD; GenCorp, Sacramento, CA; Smiths Group PLC, London, England, UK, for the activities of Smiths Aerospace Actuation Systems, Los Angeles, Duarte, CA; Triumph Group, Inc.; Wayne, PA; Analytical Graphics, Inc., Malvern, PA; Atlantic Research Corporation, Gainesville, VA (Controlling Entity: Sequa Corporation, New York, NY); Aviall, Inc., Dallas TX; Ball Aerospace & Technologies Corporation, Boulder, CO; Cubic Corporation, San Diego, CA; Curtiss-Wright Corporation, Lyndhurst, NJ; Dassault Falcon Jet Corporation, South Hackensack, NJ (Controlling Entity: Dassault Aviation, France); Davis Tool, Inc., Hillsboro, OR; DRS Technologies, Inc., Parsippany, NJ; Embraer Aircraft Corporation, Brazil; Exostar, LLC, Herndon, VA; Fairchild Dornier Corporation, Wessling, Germany; The Fairchild Corporation for the activities of Fairchild Fasteners, Dulles, VA; General Atomics Aeronautical Systems, Inc., San Diego, CA (Controlling Entity: General Atomics, San Diego, CA); Genuity Solutions, Inc., Woburn, MA; GKN Aerospace, Inc., Reston, VA (Controlling Entity: GKN Westland Aerospace division of GKN, PLC, Worcestershire, UK); ITT Industries, Inc., McLean, VA.

2. Delete the following companies as “Members” of the Certificate within the meaning of section 325.2(1) of the Regulations (15 CFR 325.2(1)): Aerojet-General Corporation, Sacramento, CA; Allied Signal Inc., Morristown, NJ; Hughes Electronic Corporation, El Segundo, CA; CMS, Inc., Tampa, FL; Coltech Industries, Inc., New York, NY; Digital Equipment Corporation, Maynard, MA; Cordant Technologies, Inc., Ogden, UT; Dowty Decoto, Inc., Duarte, CA; Dynamic Engineering Incorporated, Newport News, VA; Gulfstream Aerospace Corporation, Savannah, GA; Interturbine Corporation, Peabody, MA; ITT Defense and Electronics Inc., McLean, VA; Litton Industries, Inc., Woodland Hills, CA; Lucas Industries, Inc., Reston, VA; Marconi North America Inc., Wayne, NJ; Pacific Scientific Company, Duarte, CA; Sundstrand Corporation, Rockford, IL; Triumph Controls, Inc., North Wales, PA; Veridian Corporation, Alexandria, VA.

3. Change the listings of the current Members as follows: “BF Goodrich; Akron, OH” to “Goodrich Corporation, Charlotte, NC”; “HEICO Corporation, Hollywood, FL” to “HEICO Corporation; Miami, FL”; “B.H. Aircraft Company, Incorporated, Farmingdale, NY” to “B.H. Aircraft Company, Incorporated, Rokonkoma, NY.”

Dated: December 5, 2001.
Vanessa M. Bachman,
Acting Director, Office of Export Trading Company Affairs.

[FR Doc. 01-30666 Filed 12-11-01; 8:45 am]

BILLING CODE 3510-DR-P